FEDERAL EMERGENCY MANAGEMENT AGENCY

Radiological Emergency Preparedness: Alert and Notification

AGENCY: Federal Emergency Management Agency.

ACTION: Notice.

SUMMARY: FEMA is issuing revised guidance concerning the required content of an initial notification to the public in a plume Emergency Planning Zone (EPZ) following an incident at a nuclear power plant.

DATES: This guidance is effective October 1, 2001.

FOR FURTHER INFORMATION CONTACT: Vanessa E. Quinn, Chief, Radiological Emergency Preparedness Branch, Technological Hazards Division, Federal Emergency Management Agency, 500 C Street SW., Washington, DC 20472; (202) 646-3664, or (e-mail) vanessa.quinn@fema.gov.

SUPPLEMENTARY INFORMATION: The Federal Emergency Management Agency (FEMA), through its Radiological Emergency Preparedness (REP) program, reviews the emergency response plans of Offsite Response Organizations (OROs), which are the State and local emergency management agencies responsible for responding to incidents involving nuclear power plants. FEMA also evaluates exercises that test the capability of OROs to perform in accordance with the provisions of their plans. These activities are undertaken pursuant to FEMA regulations, which appear in Part 350 of Title 44 of the Code of Federal Regulations, and a Memorandum of Understanding between FEMA and the Nuclear Regulatory Commission, which appears at 44 CFR Part 353, Appendix A.

FEMA requires that OROs demonstrate their ability to communicate effectively with the public following an incident at a nuclear power plant. One of the components of effective communications is the delivery of an initial alert and notification message directed to persons in the EPZ.¹ We address how this initial notification should be given to the public in an EPZ in several guidance documents. These include the joint FEMA/Nuclear Regulatory Commission Criteria for Preparation and Evaluation of Radiological Emergency Response Plans and Preparedness in Support of Nuclear Power Plants (NUREG-0654/REP-1, Rev. 1), dated November 1980 ² and FEMA's Guidance for Providing Emergency Information and Instructions to the Public for Radiological Emergencies Using the New Emergency Alert System (EAS), dated February 2, 1999.³

¹ The term EPZ is defined in 44 CFR § 350.2(g). The plume EPZ is generally a 10-mile radius around the nuclear power plant.

² Planning Standard E, evaluation criterion E.7.

³ Attachment “B” to Memorandum for FEMA Regional Directors and Regional Assistance Committee Chairs from Kay C. Goss, Associate Director for Preparedness, Training and Exercises. The attachment can be viewed at http://www.fema.gov/pte/rep/easrep.htm. (viewed August 31, 2001). This document is referred to as the “February 2, 1999 Guidance.”

FEMA regulations require that planning standards and evaluation criteria in NUREG-0654/FEMA-REP-1, Rev. 1,⁴ and the Nuclear Regulatory Commission's emergency planning rule ⁵ are to be used in evaluating ORO plans and capabilities. While both the Nuclear Regulatory Commission's emergency planning rule and NUREG-0654/FEMA REP-1, Rev. 1 contemplate that initial notification messages will be made in a timely manner, neither prescribe the content of the initial notification message.⁶

⁴ 44 CFR 350.5.

⁵ 10 CFR 50.47, 10 CFR Part 50 (Appendix E) and Part 70.

⁶ Planning Standard E, evaluation criteria E.7 provides that “Each [ORO] shall provide written messages intended for the public, consistent with the [nuclear power plant's classification scheme. In particular, draft messages to the public giving instructions with regard to specific protective actions to be taken by occupants of affected areas shall be prepared and included as part of the State and local [emergency response plans]. Such messages should include the appropriate aspects of sheltering, ad hoc respiratory protection, e.g., handkerchief over mouth, thyroid blocking or evacuation * * *”

Former Guidance

On February 2, 1999, the Associate Director of FEMA for Preparedness, Training, and Exercises issued guidance indicating that initial messages transmitted through the EAS must contain the following five items:

1. Identification of the State or local government organization and the official with the authority for providing the EAS alert and message.

2. Identification of the commercial nuclear power plant, appropriate conditions at the plant (e.g., no release, potential for release or actual release and wind direction);

3. Call attention to REP-specific emergency information (e.g., brochures and information in telephone books) for use by the general public during an emergency.

4. Call attention to the possibility that a protective action may need to be taken by affected populations; and

5. Include a closing statement asking the affected and potentially affected population to stay tuned to [the] EAS station(s) for additional information. This additional information, when necessary, could be in the form of a “Special News Broadcast” that would, as soon as possible, follow the EAS message.

Revised Guidance

Effective October 1, 2001, the initial notification to the public in an EPZ of an incident at a nuclear power plant must contain the following elements:

1. Identification of the State or local government organization and the official with the authority for providing the alert signal and instructional message;

2. Identification of the commercial nuclear power plant and a statement that an emergency exists at the plant;

3. Reference to Radiologocal Emergency Preparedness specific emergency information (e.g. brochures and information in telephone books) for use by the general public during an emergency; and

4. A closing statement asking that the affected and potentially affected population stay tuned for additional information or that the population tune to another station for additional information.

The revised guidance addresses the minimum content of the initial message that must be given to the EPZ population. This message is intended to alert the public in the EPZ of the need to be attentive to the situation at the nuclear power plant. Other information that supports public health and safety objectives, including the ECL and information concerning protective actions, may also be included in the initial message at the ORO's discretion.

This guidance does not diminish the ORO's obligation to provide complete and candid information—including a plain language explanation of the situation at the plant, the ECL, an explanation of the ECL, and details concerning any protective action decisions—to the news media for use in special news broadcasts that provide more detailed information to the population of an EPZ and general news coverage. This guidance addresses only the information that must be disseminated in the initial notification message.

Consideration of Public Comments

FEMA sought public comment in the June 11, 2001 edition of the Federal Register (66 FR 31362) about whether it should revise the February 2, 1999 guidance. We indicated that we were specifically considering whether to continue to require that OROs refer to the ECL and alert the public to the possibility that a protective action decision (sometimes also referred to as a “protective action recommendation”) will be subsequently issued by the ORO. However, we also encouraged commenters to suggest other appropriate revisions to the February 2, 1999 guidance.

We received twenty-five comments in response to the Federal Register notice. Seventeen commenters supported the proposal published in the June 11 Federal Register. Six opposed the proposal. The position of the remaining two commenters could not be determined.

The commenters that supported the proposal noted:

• The initial message should be used principally as an alerting mechanism, not as an informational tool;

• The public should not be expected to understand the meaning of an ECL. Identification of the ECL might even unduly alarm members of the public. This information can be included in follow-up public information, which is more detailed.

• Announcing an ECL in the initial message will result in a large number of unnecessary, non-emergency 911 calls, especially from people outside of the EPZ who do not receive the public information materials that are distributed to people within the EPZ.

• Information accompanying protective action decisions is normally detailed and not suitable for inclusion in the Emergency Alert System format.

• FEMA should allow the OROs to include in the initial EAS message the information that they deem necessary.

Two of the six opposing comments came from individuals. One of these comments stated, “Nothing would be gained by giving the public less information in the initial message following a nuclear disaster.” We respectfully disagree with the commenter. The initial message is intended to alert people in the EPZ of the need to be attentive to the situation at the nuclear power plant. We believe it is more important that the OROs utilize the EAS to provide the most essential information, rather than the greatest quantity of information.

Another commenter suggested that FEMA should be more stringent in the information that it requires OROs to give the public. This commenter, who appears to reside outside of the applicable plume EPZ, suggested that the public was not provided with sufficient information about a February 2000 incident at the Indian Point nuclear power plant in New York State. As noted in the June 11 Federal Register notice, FEMA's proposal to change the required content of the initial message does not detract from an ORO's obligation to provide the news media and the public with complete and candid information.

Several emergency management agencies also opposed the proposal. These commenters argued that exclusion of the ECL and warnings that a protective action decision may be forthcoming provides the public with an ambiguous picture and may cause inappropriate responses. A State argued that the ECL informed parents of school children that the school was taking certain predetermined actions. However, two counties in that State submitted comments urging FEMA to not require a reference to the ECL in the initial message. Another commenter stated “Nothing less than the five elements currently in place are acceptable.”

FEMA's decision accommodates these commenters. We believe that the OROs are in a better position than FEMA to decide which information must be included in the initial message to the OROs' constituents. However, we are concerned about the apparent disagreement between a State and two of its counties about what information should be included. We encourage the State and the affected counties to come to a common understanding on this issue.

Coordination With the Nuclear Regulatory Commission

FEMA conducts the REP program, in part, under authority of a Memorandum of Understanding with the Nuclear Regulatory Commission. The text of the current Memorandum of Understanding is published in Appendix A to 44 CFR Part 353. Section E of the Memorandum of Understanding specifies that each agency will provide an opportunity for the other agency to review and comment on emergency planning and preparedness guidance (including interpretations of agreed joint guidance) prior to 2 adoption as formal agency guidance. On August 10, 2001, the Nuclear Regulatory Commission staff provided written comments on the June 11, 2001, Federal Register alert and notification notice. These comments were supportive of the revised guidance.

Dated: September 6, 2001.
Lacy E. Suiter,
Assistant Director, Readiness, Response and Recovery Directorate

[FR Doc. 01-22929 Filed 9-11-01; 8:45 am]

BILLING CODE 6718-06-P